DEPARTMENT OF TRANSPORTATION

Federal Aviation Administration

14 CFR Part 71

[Docket No. FAA-2021-0245; Airspace Docket No. 21-AAL-8]

RIN 2120-AA66

Amendment to VOR Federal Airway V-436 and Jet Route J-125, and Establishment of United States Area Navigation Route T-399 in the Vicinity of Clear, AK

AGENCY: Federal Aviation Administration (FAA), DOT.

ACTION: Final rule.

SUMMARY: This action amends Alaskan VHF Omnidirectional Range (VOR) Federal airway V-436 and Jet route J-125, and establishes United States Area Navigation (RNAV) route T-399 in the vicinity of Clear, AK. These Air Traffic Service (ATS) route actions are necessary due to the amendment of restricted area R-2206 and the establishment of new restricted areas in the vicinity of Clear, AK.

DATES: Effective date 0901 UTC, December 29, 2022. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the ATS route structure in central Alaska to maintain the efficient flow of air traffic within the National Airspace System.

History

The FAA published a notice of proposed rulemaking for Docket No. FAA 2021-0245 in the Federal Register (86 FR 17553; April 5, 2021), amending Alaskan VOR Federal airway V-436 and Jet route J-125, and establishing RNAV route T-399 in the vicinity of Clear, AK. Interested parties were invited to participate in this rulemaking effort by submitting written comments on the proposal. No comments were received.

Alaskan VOR Federal airways are published in paragraph 6010(b), Jet Routes are published in paragraph 2004, and United States Area Navigation Routes (T-routes) are published in paragraph 6011 of FAA Order JO 7400.11G, dated August 19, 2022, and effective September 15, 2022, which is incorporated by reference in 14 CFR 71.1. The ATS routes listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending Alaskan VOR Federal airway V-436 and Jet route J-125, and establishing RNAV route T-399. The expansion of restricted airspace in the vicinity of Clear, AK, makes this action necessary. The ATS route actions are described below.

V-436: V-436 extends between the Anchorage, AK (ANC), VHF Omnidirectional Range/Distance Measuring Equipment (VOR/DME) and the Deadhorse, AK (SCC), VOR/DME. This action removes the airway segment between the Talkeetna, AK (TKA), VOR/DME and the Nenana, AK (ENN), VHF Omnidirectional Range/Tactical Air Navigation (VORTAC) and replaces the removed airway segment with an airway segment that extends between the Talkeetna, AK (TKA), VOR/DME; the AILEE, AK, waypoint (WP); and the Fairbanks, AK (FAI), VORTAC. As amended, V-436 will extend between the Anchorage, AK, VOR/DME and the Fairbanks, AK, VORTAC.

J-125: J-125 extends between the Kodiak, AK (ODK), VOR/DME and the Nenana, AK (ENN), VORTAC. This action removes the route segment between the Anchorage, AK (ANC), VOR/DME and the Nenana, AK (ENN), VORTAC in order to avoid the amended and new restricted areas over Clear, AK. As amended, the route is changed and extends between the Kodiak, AK, VOR/DME and the Anchorage, AK, VOR/DME.

T-399: T-399 is a new RNAV route that extends between the Talkeetna, AK (TKA), VOR/DME and the Nenana, AK (ENN), VORTAC over the AILEE, AK; PAWWW, AK; and SEAHK, AK, WPs.

All navigational aid radials listed in the Alaskan VOR Federal airway description below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending Alaskan VOR Federal airway V-436 and Jet Route J-125, and establishing RNAV route T-399 in the vicinity of Clear, AK, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5k, which categorically excludes publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, and effective September 15, 2022, is amended as follows:

Paragraph 6010(b) Alaskan VOR Federal Airways.

* * * * *

V-436 [Amended]

From Anchorage, AK; INT Anchorage 335° and Talkeetna, AK, 195° radials; Talkeetna; Talkeetna 011° and Fairbanks, AK, 210° radials; to Fairbanks.

* * * * *

Paragraph 2004 Jet Routes.

* * * * *

J-125 [Amended]

From Kodiak, AK; to Anchorage, AK.

* * * * *

Paragraph 6011 United States Area Navigation Routes.

* * * * *

T-399 Talkeetna, AK (TKA) to Nenana, AK (ENN) [New]
Talkeetna, AK (TKA) | VOR/DME | (Lat. 62°17′54.16″ N, long. 150°06′18.90″ W)
AILEE, AK | WP | (Lat. 63°36′00.04″ N, long. 149°32′23.46″ W)
PAWWW, AK | WP | (Lat. 63°58′06.62″ N, long. 149°35′19.10″ W)
SEAHK, AK | WP | (Lat. 64°22′38.93″ N, long. 149°32′37.92″ W)
Nenana, AK (ENN) | VORTAC | (Lat. 64°35′24.04″ N, long. 149°04′22.34″ W)

* * * * *

Issued in Washington, DC, on October 21, 2022.
Scott M. Rosenbloom,
Manager, Airspace Rules and Regulations.

[FR Doc. 2022-23369 Filed 10-31-22; 8:45 am]

BILLING CODE 4910-13-P